ENVIRONMENTAL PROTECTION AGENCY

[ER-FRL-9034-7]

Environmental Impact Statements; Notice of Availability

Responsible Agency: Office of Federal Activities, General Information (202) 564-7146 or http://www.epa.gov/nepa.

Weekly receipt of Environmental Impact Statements (EISs)

Filed 08/07/2017 through 08/11/2017

Pursuant to 40 CFR 1506.9

Notice:

Section 309(a) of the Clean Air Act requires that EPA make public its comments on EISs issued by other Federal agencies. EPA's comment letters on EISs are available at: http://www.epa.gov/compliance/nepa/eisdata.html.

EIS No. 20170154, Draft, USACE, IL, Great Lakes and Mississippi River Interbasin Study Brandon Road, Comment Period Ends: 10/02/2017, Contact: Andrew Leichty 309-794-5399

EIS No. 20170155, Draft Supplement, USN, WA, Land-Water Interface and Service Pier Extension at Naval Base Kitsap Bangor, Comment Period Ends: 10/02/2017, Contact: Kimberly Kler 360-315-5103

EIS No. 20170156, Final, USN, CA, Disposal and Reuse of the Former Naval Weapons Station Seal Beach, Detachment Concord, Review Period Ends: 09/18/2017, Contact: Erica Spinelli 619-524-5926

EIS No. 20170157, Final Supplement, USFS, MT, Miller West Fisher, Review Period Ends: 09/18/2017, Contact: Denise Beck 406-293-7773 x7504

EIS No. 20170158, Final, DOE, NH, Northern Pass Transmission Line Project, Review Period Ends: 09/18/2017, Contact: Mr. Brian Mills 202-586-8267

EIS No. 20170159, Draft, BOEM, AK, Liberty Development Project, Development and Production Plan in the Beaufort Sea, Comment Period Ends: 11/18/2017, Contact: Frances Mann 907-334-5200

Amended Notices

EIS No. 20170112, Draft Supplement, USACE, AK, Alaska Stand Alone Pipeline Project, Comment Period Ends: 08/29/2017, Contact: Sandy P. Gibson 907-753-2877

Revision to Federal Register Notice Published 06/30/2017; Extending Comment Period from 08/14/2017 to 08/29/2017.

Dated: August 15, 2017.
Dawn Roberts,
Management Analyst, Office of Federal Activities.

[FR Doc. 2017-17511 Filed 8-17-17; 8:45 am]

BILLING CODE 6560-50-P